DEPARTMENT OF AGRICULTURE

Forest Service

Intergovernmental Advisory Committee Meeting

AGENCY: Forest Service, USDA.

ACTION: Notice of meeting.

SUMMARY: The Intergovernmental Advisory Committee (IAC) will meet on February 7, 2002, at the Mt. Hood Room, at the Sheraton Portland Airport Hotel, 8235 N.E. Airport Way, Portland, Oregon 97220. The purpose of the meeting is to continue discussions on the implementation of the Northwest Forest Plan (NFP). The meeting will begin at 10:30 a.m. and continue until 4:00 p.m. Agenda items to be discussed include, but are not limited to: Monitoring strategies, REO/RMG Accomplishment Reporting, and rent court rulings related to the NFP. The IAC meeting will be open to the public and is fully accessible for people with disabilities. Interpreters are available upon request at least 10 days in advance of the meeting. Written comments may be submitted for the record at he meeting. Time for oral public comments has been scheduled. Interested persons are encouraged to attend.

FOR FURTHER INFORMATION CONTACT: Questions regarding his meeting may be directed to Steve Odell, Executive Director, Regional Ecosystem Office, 333 SW 1st Avenue, PO Box 3623, Portland, OR 97208 (Phone: 503-808-2166).

Dated: January 17, 2002.
Jay F. Watson,
Acting Executive Director/Designated Federal Official.

[FR Doc. 02-1710 Filed 1-22-02; 8:45 am]

BILLING CODE 3410-11-M x